FEDERAL COMMUNICATIONS COMMISSION

47 CFR Part 54

[WC Docket Nos. 11-42; 03-109; 12-23 and CC Docket No. 96-45; FCC 12-11]

Lifeline and Link Up Reform and Modernization, Advancing Broadband Availability Through Digital Literacy Training

AGENCY: Federal Communications Commission.

ACTION: Final rule; announcement of effective date.

SUMMARY: In this document, the Federal Communications Commission (Commission) announces that the Office of Management and Budget (OMB) has approved, for a period of three years, the information collection requirements associated with certain of the provisions of the rules adopted as part of the Commission's Lifeline and Link Up Reform and Modernization Report and Order (Order). The Commission submitted revisions to those information collection requirements under control number 3060-0819 to OMB for review and approval, as required by the Paperwork Reduction Act (PRA) of 1995 (44 U.S.C. 3501-3520), 77 FR 52718, August 30, 2012. The revisions as updated were approved by OMB on November 7, 2012.

DATES: The Office of Management and Budget granted approval on November 7, 2012 for the information collection requirements under OMB Control No. 3060-0819.

FOR FURTHER INFORMATION CONTACT: Jonathan Lechter, Wireline Competition Bureau, (202) 418-7400 or TTY: (202) 418-0484.

SUPPLEMENTARY INFORMATION: This document announces that, on November 7, 2012, OMB approved, for a period of three years, the information collection requirements contained in the Commission's Order, FCC 12-11, published at 77 FR 12952, March 2, 2012. The OMB Control Number is 3060-0819. The Commission publishes this notice as an announcement of the effective date rules requiring OMB approval. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on November 7, 2012, for the information collection requirements contained in the Commission's rules at 47 CFR Sections 54.202(a), 54.401(d), 54.403, 54.404, 54.405(c), 54.405(e) except the portion of paragraph (4) relating to temporary address de-enrollment, 54.407, 54.410(a) through (f), 54.416, 54.417, 54.420, and 54.422.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0819.

The foregoing notice is required by the Paperwork Reduction Act of 1995, Pub. L. 104-13, October 1, 1995, and 44 U.S.C. 3507.

The total annual reporting burdens and costs for the respondents are as follows:

OMB Control Number: 3060-0819.

OMB Approval Date: November 7, 2012.

OMB Expiration Date: November 30, 2015.

Title: Section 54.400 through 54.707 and Lifeline Assistance (Lifeline) Connection Assistance (Link-Up) .

Form Numbers: FCC Forms 497, 550, 555, and 560.

Respondents: Individuals or households and businesses or other for-profit.

Number of Respondents and Responses: 13,500,940 respondents; 41,828,019 responses.

Estimated Time per Response: .25 hours to 50 hours.

Frequency of Response: On Occasion, Quarterly, Biennially, Monthly, 1-Time, and Annual reporting requirements, Third Party Disclosure requirements and Recordkeeping requirements.

Obligation to Respond: Required to obtain or retain benefits. Statutory authority for this information collection is contained in 47 U.S.C. 1, 4(i), 201-205, 214, 254, 403 of the Communications Act of 1934, as amended.

Total Annual Burden: 24,185,658 hours.

Total Annual Cost: N/A.

Nature and Extent of Confidentiality: The Commission is not requesting that respondents submit confidential information to the Commission. We note that the Universal Service Administrative Corporation must preserve the confidentiality of all data obtained from respondents and contributors to the universal service support program mechanism, must not use the data except for purposes of administering the universal service support program, and must not disclose data in company-specific form unless directed to do so by the Commission. Also, respondents may request materials or information submitted to the Commission be withheld from public inspection under 47 CFR 0.459 of the Commission's rules.

Needs and Uses: In the 2012 Lifeline Reform Order, 77 FR 12952, March 2, 2012, we take actions necessary to address waste in the Universal Service Fund. All the requirements contained herein are necessary to implement the congressional mandate for universal service. These reporting and recordkeeping requirements are necessary to ensure that only eligible subscribers receive support and that Eligible Telecommunications Carriers follow certain rules designed to protect low income consumers and the Universal Service Fund. The Lifeline Reform Order is another step in the Commission's ongoing efforts to overhaul all of USF programs. The Order acts to eliminate waste and inefficiency in the program and to increase accountability.

Federal Communications Commission.
Bulah P. Wheeler,
Associate Secretary.

[FR Doc. 2012-29069 Filed 11-30-12; 8:45 am]

BILLING CODE 6712-01-P